DEPARTMENT OF EDUCATION

Privacy Act of 1974; System of Records—RSA-911 Case Service Report

AGENCY: Office of Special Education and Rehabilitative Services, Department of Education.

ACTION: Notice of a new system of records.

SUMMARY: In accordance with the Privacy Act of 1974, as amended (Privacy Act), the Office of Special Education and Rehabilitative Services in the U.S. Department of Education (Department), publishes this notice of a new system of records entitled the RSA-911 Case Service Report. The RSA-911 Case Service Report is an annual report of demographic and caseload information, including financial information, related to all individuals who have exited the State Vocational Rehabilitation Services program (VR program).

DATES: The Department seeks comments on the new system of records described in this notice, in accordance with the requirements of the Privacy Act. We must receive your comments on or before May 10, 2004.

The Department filed a report describing the new system of records covered by this notice with the Chair of the Senate Committee on Governmental Affairs, the Chair of the House Committee on Government Reform, and the Administrator of the Office of Information and Regulatory Affairs, Office of Management and Budget (OMB) on April 2, 2004. This new system of records will become effective at the later date of—(1) The expiration of the 40-day period for OMB review on May 12, 2004, or (2) May 10, 2004, unless the system of records needs to be changed as a result of public comment or OMB review.

ADDRESSES: Address all comments about this new system of records to Hugh Berry, Office of Policy and Planning, Office of the Assistant Secretary, Office of Special Education and Rehabilitative Services, U.S. Department of Education, 400 Maryland Avenue, SW., room 3131, Mary E. Switzer Building, Washington, DC 20202-2524. If you prefer to send your comments through the Internet, use the following address: comments@ed.gov.

You must include the term “RSA-911 Case Service Report” in the subject line of the electronic message.

During and after the comment period, you may inspect all public comments about this notice in room 3131, Mary E. Switzer Building, 330 C Street, SW., Washington, DC, between the hours of 9 a.m. and 5:30 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Hugh Berry. Telephone: (202) 205-8121. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in 34 CFR part 5b.

The Privacy Act applies to a record about an individual that contains individually identifiable information that is retrieved by a unique identifier associated with the individual, such as a name or social security number. The information about each individual is called a “record,” and the system, whether manual or computer-based, is called a “system of records.” The Privacy Act requires each agency to publish a notice of a system of records in the Federal Register and to prepare a report to OMB whenever the agency publishes a new or altered system of records. Each agency is also required to send copies of the report to the Chair of the Senate Committee on Governmental Affairs and the Chair of the House Committee on Government Reform.

Electronic Access to This Document

You may view this document, as well as other Department documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official version of the Federal Register and the Code of Federal Regulations is available on GPO Access at: http://www.gpoaccess.gov/nara/index.html.

Dated: April 2, 2004.
Troy R. Justesen,
Acting Deputy Assistant Secretary for Special Education and Rehabilitative Services.

For the reasons discussed in the preamble, the Office of Special Education and Rehabilitative Services of the U.S. Department of Education publishes a notice of a new system of records to read as follows:

18-16-02

SYSTEM NAME:

RSA-911 Case Service Report.

SECURITY CLASSIFICATION:

None.

SYSTEM LOCATION(S):

Office of Policy and Planning, Office of the Assistant Secretary, Office of Special Education and Rehabilitative Services, U.S. Department of Education, 330 C Street, SW., Mary E. Switzer Building, room 3131, Washington, DC 20202-2524.

CATEGORIES OF INDIVIDUALS COVERED BY THE SYSTEM:

The RSA-911 Case Service Report database includes information on all persons exiting the State Vocational Rehabilitation Services program (VR program) during each fiscal year.

CATEGORIES OF RECORDS IN THE SYSTEM:

This system consists of records relating to individuals who have exited the VR program, including, but not limited to—the individual's social security number, disability characteristics, services and training, health insurance, employment outcomes, and earnings.

AUTHORITY FOR MAINTENANCE OF THE SYSTEM:

Sections 13(b) and 101(a)(10) of the Rehabilitation Act of 1973, as amended (29 U.S.C. 712(b) and 721(a)(10)).

PURPOSE(S):

This system of records is maintained for program research and evaluation purposes.

ROUTINE USES OF RECORDS MAINTAINED IN THE SYSTEM, INCLUDING CATEGORIES OF USERS AND THE PURPOSES OF SUCH USES:

The U.S. Department of Education (Department) may disclose information contained in a record in this system of records under the routine uses listed in this system of records without the consent of the individual if the disclosure is compatible with the purposes for which the record was collected. The Department may make these disclosures on a case-by-case basis or, if the Department has complied with the computer matching requirements of the Computer Matching and Privacy Protection Act of 1988, under a computer matching agreement.

(1) Freedom of Information Act (FOIA) Advice Disclosure. The Department may disclose records to the Department of Justice (DOJ) and the Office of Management and Budget (OMB) if the Department seeks advice regarding whether records maintained in the system of records must be released under the FOIA and the Privacy Act of 1974, as amended (Privacy Act).

(2) Disclosure to the DOJ. The Department may disclose records to the DOJ to the extent necessary for obtaining DOJ advice on any matter relevant to an audit, inspection, or other inquiry related to the program covered by this system.

(3) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(4) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department, or any of its components; or

(ii) Any Department employee in his or her official capacity; or

(iii) Any Department employee in his or her individual capacity if the DOJ agrees or has been requested to provide or to arrange for representation of the employee;

(iv) Any Department employee in his or her individual capacity if the Department has agreed to represent the employee; or

(v) The United States if the Department determines that the litigation is likely to affect the Department or any of its components.

(a) Disclosure to the DOJ. If the Department determines that disclosure of certain records to the DOJ is relevant and necessary to litigation or ADR and is compatible with the purpose for which the records were collected, the Department may disclose those records as a routine use to the DOJ.

(b) Adjudicative Disclosures. If the Department determines that disclosure of certain records to an adjudicative body before which the Department is authorized to appear or to an individual or an entity designated by the Department or otherwise empowered to resolve or mediate disputes is relevant and necessary to the litigation or ADR, the Department may disclose those records as a routine use to the adjudicative body, individual, or entity.

(c) Parties, Counsels, Representatives, and Witnesses.

If the Department determines that disclosure of certain records to a party, counsel, representative, or witness is relevant and necessary to the litigation or ADR, the Department may disclose those records as a routine use to the party, counsel, representative, or witness.

(5) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(6) Congressional Member Disclosure. The Department may disclose information to a Member of Congress from the record of an individual in response to an inquiry from the Member made at the written request of that individual. The Member's right to the information is no greater than the right of the individual who requested it.

(7) Enforcement Disclosure. In the event that information in this system of records indicates, either on its face or in connection with other information, a violation or potential violation of any applicable statute, regulations, or order of a competent authority, the Department may disclose the relevant records to the appropriate agency, whether foreign, Federal, State, tribal, or local, charged with the responsibility of investigating or prosecuting that violation or charged with enforcing or implementing the statute, Executive order, rule, regulations, or order issued pursuant thereto.

(8) Disclosure for Use By Other Law Enforcement Agencies. The Department may disclose information to any Federal, State, tribal, local, or foreign agency or other public authority responsible for enforcing, investigating, or prosecuting violations of administrative, civil, or criminal law or regulations if that information is relevant to any enforcement, regulatory, investigative, or prosecutorial responsibility within the receiving entity's jurisdiction.

(9) Disclosure to Other Federal Agencies, Including the Social Security Administration and the Department of Veterans Affairs. The Department may disclose records to other Federal agencies, including the Social Security Administration and the Department of Veterans Affairs, for program research and evaluation purposes.

(10) Disclosure to the Veterans' Disability Benefits Commission. The Department may disclose records to the Veterans' Disability Benefits Commission if requested to do so by this commission in order to carry out the provisions of Title XV of Pub. L. 108-136, the National Defense Authorization Act for Fiscal Year 2004.

DISCLOSURES TO CONSUMER REPORTING AGENCIES:

Not applicable to this system of records.

POLICIES AND PRACTICES FOR STORING, RETRIEVING, ACCESSING, RETAINING, AND DISCLOSING OF RECORDS IN THE SYSTEM:

STORAGE:

The Office of Special Education and Rehabilitative Services (OSERS) maintains all data on a computer mainframe and CD-ROMs. Printed reports containing sensitive data produced from this system are maintained within the locked filing cabinets within the access-restricted Basic State Grants Branch within OSERS Headquarters.

RETRIEVABILITY:

This system will be accessible only to employees of OSERS. Each record in this system can be retrieved by any of the categories of information listed under the CATEGORIES OF RECORDS IN THE SYSTEM section in this notice.

SAFEGUARDS:

Access to this system will require a unique user identification as well as a password to enter the system. Users will be required to change their passwords periodically, and they will not be allowed to repeat old passwords. Any individual attempting to log on who fails is locked out of the system after three attempts. Access after that time requires intervention by the system manager.

The computer system employed by the Department offers a high degree of resistance to tampering and circumvention. This security system limits data access to Department and contract staff on a “need to know” basis and controls individual users' ability to access and alter records within the system.

The location of the server includes safeguards and firewalls, including the physical security of the server room. In addition, the server is located in a secure room, with limited access only through a special pass. Further, all physical access to the site where the server is maintained is controlled and monitored by security personnel who check each individual entering the building for his or her employee or visitor badge.

All printed reports containing sensitive data produced from this system are immediately used for data clearing procedures and then shredded or placed into a confidential security file. The files are maintained within the locked filing cabinets within the access-restricted Basic State Grants Branch within OSERS Headquarters. In addition to these controls, computers are not left on and unattended when users access the database, and sensitive information is placed out of sight if visitors are present.

Shared output does not contain sensitive information. Aggregated data cannot be used to identify individuals. For individual-level data that are shared with researchers, all identifying information is removed from the file before the data are shared.

In addition, the following guidelines and procedures have been implemented for protecting sensitive data and resources in this system:

• Backup CDs are properly labeled “For Official Use Only—Property of the OSERS Basic State Grants Branch.”

• Electronic data (e.g., copies of the database on CDs with identifying information and edit reports with identifying information) are stored in the locked file cabinets in the OSERS Basic State Grants Branch. Management, operational, and technical controls for ensuring the safety of confidential information are detailed within the Case Services System Security Plan.

RETENTION AND DISPOSAL:

Records in this system will be retained in accordance with the National Archives and Records Administration (NARA) General Records Schedule 20, Item 1.c, which provides disposal authorization for electronic files and hard-copy printouts created to monitor system usage. Records will be deleted or destroyed when the agency determines they are no longer needed for administrative, legal, audit, or other operational purposes.

SYSTEM MANAGER AND ADDRESS:

RSA-911 Case Service Report System Manager, Rehabilitation Services Administration, Office of Special Education and Rehabilitative Services, U.S. Department of Education, 400 Maryland Avenue, SW., room 3226, Mary E. Switzer Building, Washington, DC 20202-2524.

NOTIFICATION PROCEDURE:

If you wish to determine whether a record exists about you in the system of records, provide the system manager with your name, address, and social security number. Your request for notification must also meet the requirements of the regulations in 34 CFR 5b.5, including proof of identity. You may also present your request in person or make your request in writing to the system manager at the above address.

RECORD ACCESS PROCEDURES:

Request to access a record must also reasonably specify the record contents sought and otherwise meet the requirements of the regulations in 34 CFR 5b.5, including proof of identity.

CONTESTING RECORD PROCEDURES:

If you wish to change the content of a record in this system of records, you must contact the system manager at the above address and follow the steps outlined in the NOTIFICATION PROCEDURE section of this notice. Requests to amend a record must also reasonably identify the record, specify the information being contested, provide in writing your reasons for requesting the change, and otherwise meet the regulations in 34 CFR 5b.7.

RECORD SOURCE CATEGORIES:

Records in this system are obtained from State vocational rehabilitation agencies pursuant to Federal reporting requirements. These agencies collect data from individuals with disabilities who exit their programs.

SYSTEM EXEMPTED FROM CERTAIN PROVISIONS OF THE ACT:

None.

[FR Doc. 04-7894 Filed 4-7-04; 8:45 am]

BILLING CODE 4000-01-P